DEPARTMENT OF ENERGY

Federal Energy Regulatory Commission

[Docket Nos. AC08-164-000; AC08-164-001]

MoGas Pipeline, LLC; Notice of Filing

March 3, 2009.

Take notice that on August 27, 2008, VanNess Feldman Attorneys at Law (VanNess Feldman), on behalf of MoGas Pipeline, LLC (MoGas), submitted a request for approval of proposed journal entries to clear Account 102, Electric Plant Purchased or Sold, in connection with the merger of Missouri Interstate Gas, LLC, Missouri Gas Company, LLC, and Missouri Pipeline Company, LLC into MoGas, in compliance with the Commission's Order dated April 20, 2007 in Docket No. CP06-407-000.¹ The filing states in part, that pursuant to the restructuring, Gateway Pipeline Company, LLC, the parent of the three pipelines, was also consolidated into MoGas. On October 2, 2008 and December 5, 2008, VanNess Feldman, on behalf of MoGas, submitted responses to the Chief Accountant's Data Requests dated September 24, 2008 and November 19, 2008, respectively.

¹ Missouri Interstate Gas, LLC, 119 FERC ¶ 61,074 (2007).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 18, 2009.

Kimberly D. Bose,
Secretary.

[FR Doc. E9-5229 Filed 3-10-09; 8:45 am]

BILLING CODE 6717-01-P